DEPARTMENT OF ENERGY

Federal Energy Regulatory Commission

[Docket No. CP98-134-004]

Vector Pipeline L.P.; Notice of Application

July 19, 2000.

Take notice that on June 27, 2000, Vector Pipeline L.P. (Vector), filed in Docket No. CP98-134-004 an application pursuant to Section 7(c) of the Natural Gas Act and the Commission's Regulations, 18 CFR part 157, subpart E, to amend its certificate to change its initial recourse rates.

Vector requests that the Commission amend its Certificate to revise the level of the recourse rate, set in the Preliminary Determination (PD) for the first year at $0.267 per Dth, downward to $0.248 per Dth, to reflect: (A) the following changes to the initial ratemaking methodology and Cost-of-service components: (1) Adjusting Vector's rate base to update the 1997 capital cost estimate to reflect actual costs already incurred or under contract and more accurate estimates, with a corresponding revision of AFUDC; (2) updating Vector's projected cost of debt, to reflect Vector's present contractual base and credit position, as projected by Vector's financial advisor; and (3) changing the depreciation method from straight-line to that already used in Vector's levelized negotiated rate, specifically the reverse sum-of-the-years digit method; and (B) adjusting the form of its initial rate structure by instituting (1) cast allocation to IT and other services and (2) zone rates as follows:

Zone 1 (to MP43 ) $0.346 per Dth

Zone 2 (to MP333) $0.2556 per Dth

Any questions regarding the application should be directed to Juri Otsason, President, at (416) 753-7303, Vector Pipeline L.P., 500 Consumers Rd. Toronto, Ontario M2J1P8.

Any person desiring to protest said filing should file a protest with the Federal Energy Regulatory Commission, 888 First Street, NE., Washington, DC 20426, in accordance with Section 385.211 of the Commission's Rules and Regulations. All such protests must be filed on or before July 26, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Vector to appear or be represented at the hearing.

David P. Boergers,
Secretary.

[FR Doc. 00-18621 Filed 7-21-00; 8:45 am]

BILLING CODE 6717-01-M